Executive Order 14270 of April 9, 2025

Zero-Based Regulatory Budgeting To Unleash American Energy

By the authority vested in me as President by the Constitution and the laws of the United States of America, it is hereby ordered:

Section 1. Purpose. In our country, laws are supposed to provide the certainty and order necessary to foster liberty and innovation. Instead, our vast regulatory structure often serves to constrict ordered liberty, not promote it. The United States Code itself is more than 60,000 pages. But unelected agency officials write most of the complex, legally binding rules on top of that, often stretching these statutory provisions beyond what the Congress enacted.

In particular, the previous administration added more pages to the Federal Register than any other in history, with the result that the Code of Federal Regulations now approaches a staggering 200,000 pages. These regulations linger in such volume that serious reexamination seldom occurs.

This regime of governance-by-regulator has imposed particularly severe costs on energy production, where innovation is critical. The net result is an energy landscape perpetually trapped in the 1970s. By rescinding outdated regulations that serve as a drag on progress, we can stimulate innovation and deliver prosperity to everyday Americans.

This order directs certain agencies to incorporate a sunset provision into their regulations governing energy production to the extent permitted by law, thus compelling those agencies to reexamine their regulations periodically to ensure that those rules serve the public good.

Sec. 2. Definitions. For the purposes of this order:

(a) “Conditional Sunset Date” means the date a regulation will cease to be effective and be removed from the Code of Federal Regulations, if the agency does not extend the Sunset Date pursuant to section 4(d) of this order.

(b) “Covered Agency” means one of the agencies listed in section 3(a) of this order.

(c) “Covered Regulation” means a regulation issued in whole or in part pursuant to a statutory authority listed in sections 3(b)-(j) of this order.

(d) “DOGE Team Lead” means the leader of the DOGE Team at each agency as described in Executive Order 14158.

(e) “Regulation” means each part, subpart, or individual provision of the Code of Federal Regulations promulgated under an agency rule as defined in 5 U.S.C. 551(4).

Sec. 3. Covered Agencies and Regulations. (a) This order applies to the following agencies and their subcomponents: the Environmental Protection Agency (EPA); the Department of Energy (DoE); the Federal Energy Regulatory Commission (FERC); and the Nuclear Regulatory Commission (NRC). It further applies to the following agency subcomponents: the Office of Surface Mining Reclamation and Enforcement (OSMRE), the Bureau of Land Management (BLM), the Bureau of Ocean Energy Management (BOEM), the Bureau of Safety and Environmental Enforcement (BSEE), and the United States Fish and Wildlife Service (FWS), all within the Department of the Interior; and the United States Army Corps of Engineers (ACE), within the United States Army.

(b) For the DoE, this order applies to all regulations issued pursuant to the following statutes and any amendments thereto:

(i) the Atomic Energy Act of 1954;

(ii) the National Appliance Energy Conservation Act of 1987;

(iii) the Energy Policy Act of 1992;

(iv) the Energy Policy Act of 2005; and

(v) the Energy Independence and Security Act of 2007.

(c) For FERC, this order applies to all regulations issued pursuant to the following statutes and any amendments thereto:

(i) the Federal Power Act of 1935;

(ii) the Natural Gas Act of 1938; and

(iii) the Powerplant and Industrial Fuel Use Act of 1978.

(d) For the NRC, this order applies to all regulations issued pursuant to the following statutes and any amendments thereto:

(i) the Atomic Energy Act of 1954;

(ii) the Energy Reorganization Act of 1974; and

(iii) the Nuclear Waste Policy Act of 1982.

(e) For the OSMRE, this order applies to all regulations issued pursuant to the Surface Mining Control and Reclamation Act of 1977 and any amendments thereto.

(f) For the BLM, this order applies to all regulations issued pursuant to the following statutes and any amendments thereto:

(i) the Mining Act of 1872;

(ii) the Federal Land Policy and Management Act of 1976; and

(iii) the Energy Policy Act of 2005.

(g) For the BOEM, this order applies to all regulations issued pursuant to the following statutes and any amendments thereto:

(i) the Outer Continental Shelf Act of 1953; and

(ii) the Energy Policy Act of 2005.

(h) For the BSEE, this order applies to all regulations issued pursuant to the Outer Continental Shelf Act of 1953 and any amendments thereto.

(i) For the FWS, this order applies to all regulations issued pursuant to the following statutes and any amendments thereto:

(i) the Bald and Golden Eagle Protection Act;

(ii) the Migratory Bird Treaty Act of 1918;

(iii) the Fish and Wildlife Coordination Act of 1934;

(iv) the Anadromous Fish Conservation Act of 1965;

(v) the Marine Mammal Protection Act of 1972;

(vi) the Endangered Species Act of 1973;

(vii) the Magnuson-Stevens Fishery Conservation and Management Act of 1976; and

(viii) the Coastal Barrier Resources Act of 1982.

(j) For the EPA and ACE, within 30 days of the date of this order, the Administrator of the EPA and Secretary of the Army shall provide to the President, through the Director of the Office of Management and Budget (OMB Director), a list of statutes vesting EPA and ACE with regulatory authority that shall be subject to this order.

Sec. 4. Zero-Based Regulating. (a) To the extent consistent with applicable law, each of the Covered Agencies shall issue a sunset rule, effective not later than September 30, 2025, that inserts a Conditional Sunset Date into each of their Covered Regulations.

(b) The sunset rule shall provide that each Covered Regulation in effect on the date of this order shall have a Conditional Sunset Date of 1 year after the effective date of the sunset rule, subject to the process set forth in subsection (d) of this section. Unless the extension condition specified in subsection (d) of this section is satisfied, agencies will treat Covered Regulations as ceasing to be effective on that date for all purposes. An agency shall not take any action to enforce such an ineffective regulation and, to the maximum extent permitted by law, shall remove it from the Code of Federal Regulations.

(c) In any new Covered Regulation, to the maximum extent consistent with law, the relevant Covered Agency shall include a Conditional Sunset Date that is not more than 5 years in the future. Amendments to any Covered Regulation shall provide that they do not reset that regulation's Conditional Sunset Date and shall be subject to the same Conditional Sunset Date as the amended regulation. The OMB Director may exempt a new regulation or amendment from the requirements of this paragraph if he determines that the new regulation or amendment has a net deregulatory effect.

(d) The sunset provision added to existing and new Covered Regulations shall provide that the agency will offer the public an opportunity to comment on the costs and benefits of each regulation, such as through a request for information, prior to a rule's expiration, and following such opportunity the Conditional Sunset Date for that Covered Regulation may be extended if the agency finds an extension is warranted. A request for information shall not automatically extend the Conditional Sunset Date. A Covered Agency may extend the Conditional Sunset Date for a particular Covered Regulation as many times as is appropriate, but never to a date more than 5 years in the future.

Sec. 5. Implementation. (a) Neither a determination to extend the Conditional Sunset Date of a particular regulation, nor a regulation that expires as a result this order, shall count towards the ten-for-one regulatory requirement in Executive Order 14192 of January 31, 2025 (Unleashing Prosperity Through Deregulation).

(b) Agency heads shall coordinate with their DOGE Team Leads and the Office of Management and Budget to implement this order.

(c) This order shall not apply to regulatory permitting regimes authorized by statute.

Sec. 6. Severability. If any provision of this order, or the application of any provision to any agency, person or circumstance, is held to be invalid, the remainder of this order and the application of its provisions to any other agencies, persons or circumstances shall not be affected thereby.

Sec. 7. General Provisions. (a) Nothing in this order shall be construed to impair or otherwise affect:

(i) the authority granted by law to an executive department or agency, or the head thereof; or

(ii) the functions of the OMB Director relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 9, 2025.

[FR Doc. 2025-06466

Filed 4-14-25; 8:45 am]

Billing code 3395-F4-P